DEPARTMENT OF AGRICULTURE

Animal and Plant Health Inspection Service

[Docket No. 02-116-1]

Oriental Mealybug; Notice of Availability of an Environmental Assessment

AGENCY: Animal and Plant Health Inspection Service, USDA.

ACTION: Notice of availability and request for comments.

SUMMARY: We are advising the public that an environmental assessment has been prepared by the Animal and Plant Health Inspection Service relative to the control program of the Oriental mealybug (Planococcus lilacinus). The environmental assessment documents our review and analysis of environmental impacts associated with five alternatives for control of Oriental mealybug, as well as a recommendation for the use of biological control agents in the event Oriental mealybug is detected in the United States. We are making this environmental assessment available to the public for review and comment.

DATES: We will consider all comments that we receive on or before February 5, 2003.

ADDRESSES: You may submit comments by postal mail/commercial delivery or by e-mail. If you use postal mail/commercial delivery, please send four copies of your comment (an original and three copies) to: Docket No. 02-116-1, Regulatory Analysis and Development, PPD, APHIS, Station 3C71, 4700 River Road Unit 118, Riverdale, MD 20737-1238. Please state that your comment refers to Docket No. 02-116-1. If you use e-mail, address your comment to regulations@aphis.usda.gov. Your comment must be contained in the body of your message; do not send attached files. Please include your name and address in your message and “Docket No. 02-116-1” on the subject line.

You may read any comments that we receive on the draft environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Dale Meyerdirk, Agriculturalist, National Biological Control Institute, PPQ, APHIS, 4700 River Road Unit 135, Riverdale, MD 20737-1236; (301) 734-5220.

SUPPLEMENTARY INFORMATION:

Background

Oriental mealybug (Planococcus lilacinus) is a foreign plant pest that attacks at least 96 different species of plants, including agricultural and ornamental plants. Oriental mealybug is widely distributed in the Eastern Hemisphere. In the Western Hemisphere, Oriental mealybug is found in the Dominican Republic, El Salvador, Guam, and Haiti. Susceptible areas include coastal locations in Mexico as well as the area abutting the Rio Grande Valley. In the United States, an area including all of the south, and extending north and west as far as Pennsylvania; lower Ohio, Indiana, and Missouri; and eastern Texas, is susceptible. Even in cold regions, certain greenhouse crops would be at risk of infestation. For these reasons, Oriental mealybug could become a serious agricultural threat if it were to enter and become established in the United States.

The Animal and Plant Health Inspection Service (APHIS) has completed an environmental assessment that considers various methods of suppression for Oriental mealybug in the event this pest is detected in the United States. Based on our findings, we believe that the most effective alternative available is the use of biological control agents in the form of encrytid wasps of the genera Aenasius, Anagyrus, Aphycus, Gyranusoidea, Leptomastix, Pseudaphyscus, Taftia, Tetracnemoidea, and Promuscidae in the family Aphelinidae. Therefore, we propose to import these biological control agents and rear them on Oriental mealybug in U.S. Department of Agriculture-certified insect quarantine facilities in preparation for their dissemination into the ecosystem in the event of an infestation of Oriental mealybug.

It is expected that the biological control agents would be introduced into areas where the Oriental mealybug occurs and reproduce naturally without further human intervention, and that these stingless, parasitic wasps would become established throughout the eventual geographical distribution of Oriental mealybug in the United States. The biological characteristics of the organisms under consideration preclude any possibility of harmful effects on human health.

APHIS' review and analysis of the potential environmental impacts associated with each of the possible alternatives are documented in detail in an environmental assessment entitled “Control of Oriental Mealybug, Planococcus lilacinus (Homoptera: Pseudococcidae)” (October 2002). We are making this environmental assessment available to the public for review and comment. We will consider all comments that we receive on or before the date listed under the heading DATES at the beginning of this notice.

You may request copies of the environmental assessment by calling or writing to the person listed under FOR FURTHER INFORMATION CONTACT. Please refer to the title of the environmental assessment when requesting copies. The environmental assessment is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS” NEPA Implementing Procedures (7 CFR part 372).

Done in Washington, DC, this 30th day of December 2002.
Peter Fernandez,
Acting Administrator, Animal and Plant Health Inspection Service.

[FR Doc. 03-213 Filed 1-3-03; 8:45 am]

BILLING CODE 3410-34-P